DEPARTMENT OF TRANSPORTATION

Federal Highway Administration

[Docket No. FHWA-2021-0002]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by April 12, 2021.

ADDRESSES: You may submit comments identified by DOT Docket ID Number 2021-0002 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: David Chandler, 617-866-8679/david.chandler@dot.gov; Martha Kenley, 202-604-6879/Martha.kenley@dot.gov, Office of Civil Rights, Federal Highway Administration, Department of Transportation, 1200 New Jersey Avenue SE, Washington, DC 20590. Office hours are from 8 a.m. to 5 p.m., Monday through Friday, except Federal holidays.

SUPPLEMENTARY INFORMATION:

Title: On-the-Job Training (OJT) Program Report.

Background: The Findings in a September 2011 Government Accountability Office (GAO) Report concerning FHWA's administration of the OJT requirements indicated that FHWA needs to strengthen its stewardship and oversite of the OJT Program. Specifically, the GAO report cited, “FHWA does not know what these programs have accomplished or how effectively these activities have advanced the broader goal of bringing underrepresented individuals into the highway construction workforce, because FHWA has performed only limited assessments of these programs over their nearly 40-year history.”

The OJT regulations (23 CFR 230.111(a)) require State DOT recipients to determine annually which contracts should include Training Special Provisions and the minimum number of trainees or trainee hours to be specified in those provisions. By delegated authority from the FHWA Office of Civil Rights (HCR), this information is submitted by the State DOT to the respective FHWA division office for concurrence and approval of the total number of training slots or hours. This total number then becomes the State DOT's annual OJT program goal.

Once an OJT goal is set, the regulations at § 230.111(b) require State DOTs that do not meet their annual goals to evaluate and report the reasons for the shortfall and remedial steps to be taken in the next calendar year. This information is due to FHWA no later than 30 days after the calendar year. Notwithstanding these requirements, there is no prescribed format for reporting this information to FHWA, so State DOT reports are varied. Further, there is no general reporting requirement that would allow HCR to evaluate the effectiveness of the OJT program nationally in meeting the primary objective: To employ, train, and upgrade minorities and women in the highway construction trades. Without any broader reporting requirement, FHWA lacks the necessary data to provide meaningful stewardship and oversight or to measure the effectiveness of OJT Programs nationally, as cited in GOA's 2011 Report. In addition, this lack of data limits FHWA's ability to respond to requests from stakeholders, including Congress, regarding program accomplishments.

The information FHWA proposes to collect in its OJT Program Report is based on existing requirements found in 23 CFR 230, Subpart A; therefore, State DOTs should have this information readily available. Use of the OJT Program Report is optional, and it will be made available through the Civil Rights Connect System currently used by FHWA recipients.

Respondents: A maximum of fifty-three recipients may respond using the OJT Program Report provided by HCR.

Frequency: Every year by January 30th.

Estimated Average Burden per Response: The estimated number of hours for each of fifty-three (53) recipients to compile and submit the requested data is estimated to be not more than four (4) employee hours annually.

Estimated Total Annual Burden Hours: Approximately 212 hours for fifty-three (53) recipients annually.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: February 3, 2021.
Michael Howell,
Information Collection Office.

[FR Doc. 2021-02567 Filed 2-8-21; 8:45 am]

BILLING CODE 4910-22-P